DEPARTMENT OF THE INTERIOR

Geological Survey

[GX24EG00COM0001; OMB Control Number 1028-0127]

Agency Information Collection Activities; Markup Application

AGENCY: U.S. Geological Survey (USGS), Department of the Interior.

ACTION: Notice of Information Collection; request for comment.

SUMMARY: In accordance with the Paperwork Reduction Act (PRA) of 1995, the U.S. Geological Survey (USGS) is proposing to renew an information collection with revisions.

DATES: Interested persons are invited to submit comments on or before July 24, 2024.

ADDRESSES: Send your comments on this information collection request (ICR) by mail to US Geological Survey, Information Collections Officer, 12201 Sunrise Valley Drive MS 159, Reston, VA 20192; or by email to gs-info_collections@usgs.gov. Please reference OMB Control Number 1028-0127 in the subject line of your comments.

FOR FURTHER INFORMATION CONTACT: To request additional information about this ICR, contact Gregory Cocks by email at gjcocks@usgs.gov, or by telephone at 303-202-4146.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA of 1995 (44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on April 11, 2024, (89 FR 25646). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: Markup Application is the name of the USGS National Geospatial Technical Operations Center project that allows citizen participation in volunteer map data collection activities for hydrography datasets.

Proposed Revision

For this ICR revision, the USGS will no longer be collecting data for the following: National Hydrography Dataset (NHD), Watershed Boundary Dataset (WBD), and National Hydrography Dataset Plus High Resolution (NHDPlus HR). We will transition to the 3D Hydrography Program (3DHP).

The USGS manages the 3DHP. The USGS also offers technical support and distributes authoritative hydrography data to the public as part of The National Map.

Markup Application allows citizens to submit proposed changes and corrections, called “suggested edits,” to 3DHP. All submitted suggested edits, along with the user email contact, are saved in a dataset to be reviewed by USGS staff, or trusted stakeholders, for allowable edits and for validation. USGS staff or trusted stakeholders may contact the user submitting the suggested edit(s) via the recorded email address if further clarification is needed. Validated suggested edits go in a queue of edits to be incorporated into the 3DHP. The edits are made by USGS editors using internal editing tools/methods. No edits to the hydrography datasets take place within the Markup Application.

Title of Collection: Markup Application.

OMB Control Number: 1028-0127.

Form Number: None.

Type of Review: Revision of a currently approved collection.

Respondents/Affected Public: Individuals/households.

Total Estimated Number of Annual Respondents: 115.

Total Estimated Number of Annual Responses: 2,087.

Estimated Completion Time per Response: Between 3 minutes for markup creation (1972 responses = 99 hours) and 18 minutes for user login and lessons reviewed (115 responses = 35 hours) depending on activity.

Total Estimated Number of Annual Burden Hours: 134 hours.

Respondent's Obligation: Voluntary.

Frequency of Collection: Occasional.

Total Estimated Annual Nonhour Burden Cost: None.

An agency may not conduct or sponsor, nor is a person required to respond to a collection of information unless it displays a currently valid OMB control number.

The authority for this action is the Paperwork Reduction Act of 1995 (44 U.S.C. 3501 et seq.).

Hannah Boggs,
Acting Director, National Geospatial Technical Operations Center, U.S. Geological Survey.

[FR Doc. 2024-13792 Filed 6-21-24; 8:45 am]

BILLING CODE 4338-11-P